DEPARTMENT OF ENERGY

Federal Energy Regulatory Commission

[Docket No. CP02-436-001]

Northern Natural Gas Company; Notice of Amendment

February 7, 2003.

Take notice that on January 29, 2003, Northern Natural Gas Company (Northern), 1111 South 103rd Street, Omaha, Nebraska 68124-1000, filed in the above referenced docket, an amendment to its original application that was filed on September 30, 2002, pursuant to section 7(c) of the Natural Gas Act (NGA) and part 157 of the Commission's rules and regulations. The original application sought a certificate of public convenience to construct and operate certain compression, pipeline, and town border station (TBS) facilities, with appurtances, located in various counties in Minnesota in order to expand the capacity of Northern's Market Area facilities (Project MAX). Northern's amendment proposes to amend its September 30, 2002, application to include the modification of three additional existing TBS facilities and the upgrade of the proposed Popple Creek Compressor Station, all located in Minnesota, all as more fully described in the application. This filing is available for review at the Commission in the Public Reference Room or may be viewed on the Commission's Web site at http://www.ferc.gov using the “FERRIS” link. Enter the docket number excluding the last three digits in the docket number field to access the document. For assistance, contact FERC at FERCOnlineSupport@ferc.gov or call toll-free, (866) 208-3676, or for TTY, (202) 502-8659.

Northern states that in response to additional customer requests, Northern held an open season from December 13 through December 23, 2002, for capacity on its St. Cloud branchline to provide service beginning November 1, 2003, to be included in Northern's Project MAX expansion. Northern received requests from two customers for 5,770 of incremental throughput and realignment of 9,961 Mcf/d from other Market Area Points. In order to provide such service, Northern proposes to amend the September 30, 2002, application to include the modification of Deerwood TBS, Sherwood Forest TBS, and Sartell #1 TBS and the installation of a 1,500 horsepower (HP) compressor unit instead of the 1,000 HP unit originally proposed at the new Popple Creek Compressor Station. Northern states that it will mitigate the impacts, if necessary, to ensure that the noise level at the noise sensitive areas (NSA) will not exceed the required 55 Ldn noise level. Northern estimates that the total estimated capital cost of the facility modifications proposed is $457,000. Northern proposes that costs of the facility modifications and the facilities in the September 30, 2002, application be rolled-in to Northern's Market Area rates in its next general rate case once the subject facilities are placed in-service.

Northern requests that the Commission issue an order granting approval of the subject facilities by no later than May 1, 2003, in order to ensure an in-service date of November 1, 2003.

Any questions regarding the application should be directed to Mary Kay Miller, Vice President, Regulatory & Customer Service, Northern Natural Gas Company, P.O. Box 3330,Omaha, Nebraska 68103-0330, telephone (402) 398-7060 or Michael T. Loeffler, Director Certificates and Community Relations, Northern Natural Gas Company, P.O. Box 3330, Omaha, Nebraska 68103-0330, telephone (402) 398-7103.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's rules of practice and procedure (18 CFR 385.214 or 385.211) and the regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: February 28, 2003.

Magalie R. Salas,
Secretary.

[FR Doc. 03-3650 Filed 2-13-03; 8:45 am]

BILLING CODE 6717-01-P